DEPARTMENT OF JUSTICE

Antitrust Division

Notice Pursuant to the National Cooperative Research and Production Act of 1993—Pistoia Alliance, Inc.

Notice is hereby given that, on April 24, 2020, pursuant to Section 6(a) of the National Cooperative Research and Production Act of 1993, 15 U.S.C. 4301 et seq. (the “Act”), Pistoia Alliance, Inc. filed written notifications simultaneously with the Attorney General and the Federal Trade Commission disclosing changes in its membership. The notifications were filed for the purpose of extending the Act's provisions limiting the recovery of antitrust plaintiffs to actual damages under specified circumstances. Specifically, Eppendorf AG, Hamburg, Germany; University of Miami, Coral Gables, FL; Digital Lab Consulting Limited, London, UNITED KINGDOM; Quantori LLC, Cambridge, MA; Motor Neurone Disease Association, Northampton, UNITED KINGDOM; Genomics Medicine Sweden (Represented by region Skane), Kristianstad, SWEDEN; Johnson Matthey Plc, London, UNITED KINGDOM; MarkLogic Corporation, San Carlos, CA; and Biogen, Cambridge, MA have been added as parties to this venture.

Also, KNIME AG, Zurich, SWITZERLAND; Peter Boogaard (individual member), Moordrecht, THE NETHERLANDS; Robert E. Schwartz (individual member), Seaside Park, NJ; Amgen, Thousand Oaks, CA; Gaia Paolini (individual member), Bridge, UNITED KINGDOM; Medley Genomics, Providence, RI; Omix Ventures Private Limited, Douglas, ISLE OF MAN; Lab Automation Network, Tubigen, GERMANY; Adimab LLC, Lebanon, NH; Waters Technologies Company, Milford, MA; Numerate Inc., San Francisco, CA; Patrick Ng (individual member), Chromos, SINGAPORE; Luxoft Global Operations GmbH, Zug, SWITZERLAND; Arxspan, Southborough, MA; Synthase, London, UNITED KINGDOM; and Incedo, Santa Clara, CA have withdrawn as parties to this venture.

No other changes have been made in either the membership or planned activity of the group research project. Membership in this group research project remains open, and Pistoia Alliance, Inc. intends to file additional written notifications disclosing all changes in membership.

On May 28, 2009, Pistoia Alliance, Inc. filed its original notification pursuant to Section 6(a) of the Act. The Department of Justice published a notice in the Federal Register pursuant to Section 6(b) of the Act on July 15, 2009 (74 FR 34364).

The last notification was filed with the Department on February 6, 2020. A notice was published in the Federal Register pursuant to Section 6(b) of the Act on February 27, 2020 (85 FR 11397).

Suzanne Morris,
Chief, Premerger and Division Statistics, Antitrust Division.

[FR Doc. 2020-10738 Filed 5-18-20; 8:45 am]

BILLING CODE P